DEPARTMENT OF AGRICULTURE

Office of the Secretary

7 CFR Subtitles A and B

9 CFR Chapters I, II, and III

Identifying Regulatory Reform Initiatives

AGENCY: Office of the Secretary, USDA.

ACTION: Notice; extension of comment period.

SUMMARY: The U.S. Department of Agriculture is extending the comment period for our request for information on how we can provide better customer service and remove unintended barriers to participation in our regulatory programs published in the Federal Register on July 17, 2017. This action will allow interested persons additional time to prepare and submit comments.

DATES: The comment period for the proposed rule published July 17, 2017 (82 FR 32649-32650), is extended. We will consider all comments that we receive on or before July 18, 2019.

ADDRESSES: We invite you to submit comments on this notice. For proper delivery, in your comment, specify “Identifying Regulatory Reform Initiatives.”

Electronic Submission of Comments. You may submit comments electronically through the Federal eRulemaking Portal: http://www.regulations.gov. USDA strongly encourages commenters to submit comments electronically. Electronic submission of comments allows you maximum time to prepare and submit a comment, and ensures timely receipt by USDA. Follow the instructions provided on that site to submit comments electronically.

Submission of Comments by Mail, Hand delivery, or Courier. Paper, disk, or CD-ROM submissions should be submitted to regulations@obpa.usda.gov, Office of Budget and Program Analysis, USDA, Jamie L. Whitten Building, Room 101-A, 1400 Independence Ave. SW, Washington, DC 20250.

FOR FURTHER INFORMATION CONTACT: Michael Poe, Telephone Number: (202) 720-5303.

Rebeckah Adcock,
Regulatory Reform Officer and Senior Advisory to the Secretary, Office of the Secretary.

[FR Doc. 2018-13153 Filed 6-19-18; 8:45 am]

BILLING CODE 3410-90-P